DEPARTMENT OF THE INTERIOR

Fish and Wildlife Service

[FWS-R8-ES-2020-N141; FXES11130800000-212-FF08E00000]

Endangered and Threatened Wildlife and Plants; Initiation of 5-Year Status Reviews of 76 Species in California and Nevada

AGENCY: Fish and Wildlife Service, Interior.

ACTION: Notice of initiation of reviews; request for information.

SUMMARY: We, the U.S. Fish and Wildlife Service, are initiating 5-year status reviews of 76 species in California and Nevada under the Endangered Species Act. A 5-year review is based on the best scientific and commercial data available at the time of the review; therefore, we are requesting submission of any new information on these species that has become available since the last review.

DATES: To ensure consideration in our reviews, we are requesting submission of new information no later than July 19, 2021. However, we will continue to accept new information about any species at any time.

ADDRESSES: For how and where to send information and comments, see Request for New Information. For whom to contact for species-specific information, see Request for New Information. Individuals who are hearing impaired or speech impaired may call the Federal Relay Service at 800-877-8337 for TTY assistance.

SUPPLEMENTARY INFORMATION:

Why do we conduct 5-year reviews?

Under the Endangered Species Act of 1973, as amended (Act; 16 U.S.C. 1531 et seq.), we maintain lists of endangered and threatened wildlife and plant species (referred to as the List) in the Code of Federal Regulations (CFR) at 50 CFR 17.11 (for wildlife) and 17.12 (for plants). Section 4(c)(2)(A) of the Act requires us to review each listed species' status at least once every 5 years. For additional information about 5-year reviews, refer to our factsheet at http://www.fws.gov/endangered/what-we-do/recovery-overview.html.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented to benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for the species.

Which species are under review?

This notice announces our active review of the species listed in the table below.

Common name | Scientific name | Status | States where species is known to occur | Final Listing rule (Federal Register citation and publication date) | Lead fish and wildlife office
Animals
Butterfly, Quino checkerspot | Euphydryas editha quino (=E. e. wrighti) | E | CA, Mexico | 62 FR 2313; 1/16/1997 | Carlsbad.
Fox, Santa Catalina Island | Urocyon littoralis catalinae | T | CA | 69 FR 10335; 3/5/2004 | Carlsbad.
Lizard, Coachella Valley fringe-toed | Uma inornata | T | CA | 45 FR 63812; 9/25/1980 | Carlsbad.
Sucker, Santa Ana | Catostomus santaanae | T | CA | 65 FR 19686; 4/12/2000 | Carlsbad.
Vireo, least Bell's | Vireo bellii pusillus | E | CA, Mexico | 51 FR 16474; 5/2/1986 | Carlsbad.
Vole, Amargosa | Microtus californicus scirpensis | E | CA | 49 FR 45160; 11/15/1984 | Carlsbad.
Condor, California | Gymnogyps californianus | E | AZ, CA, NV, and UT | 32 FR 4001; 3/11/1967 | Hopper Mountain National Wildlife Refuge.
Chub, Owens Tui | Gila bicolor snyderi | E | CA | 50 FR 31592; 8/5/1985 | Reno.
Dace, desert | Eremichthys acros | T | NV | 32 FR 4001; 3/11/1967 | Reno.
Pupfish, Owens | Cyprinodon radiosus | E | CA | 32 FR 4001; 3/11/1967 | Reno.
Speckled dace, Clover Valley | Rhinichthys osculus oligoporus | E | NV | 54 FR 41448; 10/10/1989 | Reno.
Speckled dace, Independence Valley | Rhinichthys osculus lethoporus | E | NV | 54 FR 41448; 10/10/1989 | Reno.
Crayfish, Shasta | Pacifastacus fortis | E | CA | 53 FR 38460; 9/30/1988 | Sacramento.
Fairy shrimp, Conservancy | Branchinecta conservatio | E | CA | 59 FR 48136; 9/19/1994 | Sacramento.
Fairy shrimp, longhorn | Branchinecta longiantenna | E | CA | 59 FR 48136; 9/19/1994 | Sacramento.
Fairy shrimp, vernal pool | Branchinecta lynchi | T | CA | 59 FR 48136; 9/19/1994 | Sacramento.
Shrimp, California freshwater | Syncaris pacifica | E | CA | 53 FR 43884; 10/31/1988 | Sacramento.
Tadpole shrimp, vernal pool | Lepidurus packardi | E | CA | 59 FR 48136; 9/19/1994 | Sacramento.
Trout, Little Kern golden | Oncorhynchus aguabonita whitei | T | CA | 43 FR 15427; 4/13/1978 | Sacramento.
Butterfly, Mount Charleston blue | Icaricia (Plebejus) shasta charlestonensis | E | NV | 78 FR 57749; 10/21/2013 | Southern Nevada.
Chub, Pahranagat roundtail | Gila robusta jordani | E | NV | 35 FR 16047; 10/13/1970 | Southern Nevada.
Dace, Moapa | Moapa coriacea | E | NV | 32 FR 4001; 3/11/1967 | Southern Nevada.
Pupfish, Devils Hole | Cyprinodon diabolis | E | NV | 32 FR 4001; 3/11/1967 | Southern Nevada.
Springfish, Hiko White River | Crenichthys baileyi grandis | E | NV | 50 FR 39123; 9/27/1985 | Southern Nevada.
Springfish, White River | Crenichthys baileyi baileyi | E | NV | 50 FR 39123; 9/27/1985 | Southern Nevada.
Tortoise, desert | Gopherus agassizii | T | AZ, CA, NV, OR, and UT | 45 FR 55654; 8/20/1980 | Southern Nevada.
Salamander, California tiger (Santa Barbara County distinct population segment) | Ambystoma californiense | E | CA | 65 FR 3096; 1/19/2000 | Ventura.
Plants
Bladderpod, San Bernardino Mountains | Lesquerella kingii bernardina | E | CA | 59 FR 43652; 8/24/1994 | Carlsbad.
Brodiaea, thread-leaved | Brodiaea filifolia | T | CA | 63 FR 54975; 10/13/1998 | Carlsbad.
Buckwheat, cushenbury | Eriogonum ovalifolium vineum | E | CA | 59 FR 43652; 8/24/1994 | Carlsbad.
Button-celery, San Diego | Eryngium aristulatum parishii | E | CA | 58 FR 41384; 8/3/1993 | Carlsbad.
Daisy, Parish's | Erigeron parishii | T | CA | 59 FR 43652; 8/24/1994 | Carlsbad.
Flannelbush, Mexican | Fremontodendron mexicanum | E | CA, Mexico | 63 FR 54956; 10/13/1998 | Carlsbad.
Manzanita, Del Mar | Arctostaphylos glandulosa crassifolia | E | CA, Mexico | 61 FR 52370; 10/7/1996 | Carlsbad.
Mesa-mint, Otay | Pogogyne nudiuscula | E | CA, Mexico | 58 FR 41384; 8/3/1993 | Carlsbad.
Mesa-mint, San Diego | Pogogyne abramsii | E | CA | 43 FR 44810; 10/29/1978 | Carlsbad.
Milk-vetch, Coachella Valley | Astragalus lentiginosus coachellae | E | CA | 63 FR 53596; 10/6/1998 | Carlsbad.
Milk-vetch, Cushenbury | Astragalus albens | E | CA | 59 FR 43652; 8/24/1994 | Carlsbad.
Milk-vetch, Lane Mountain | Astragalus jaegerianus | E | CA | 63 FR 53596; 10/6/1998 | Carlsbad.
Monardella, willowy | Monardella viminea | E | CA, Mexico | 63 FR 54938; 10/13/1998 | Carlsbad.
Navarretia, spreading | Navarretia fossalis | T | CA, Mexico | 63 FR 54975; 10/13/1998 | Carlsbad.
Onion, Munz's | Allium munzii | E | CA | 63 FR 54975; 10/13/1998 | Carlsbad.
Orcutt grass, California | Orcuttia californica | E | CA | 58 FR 41384; 8/3/1993 | Carlsbad.
Oxytheca, Cushenbury | Oxytheca parishii goodmaniana | E | CA | 59 FR 43652; 8/24/1994 | Carlsbad.
Spineflower, slender-horned | Dodecahema leptoceras | E | CA | 52 FR 36265; 9/28/1987 | Carlsbad.
Tarplant, Otay | Deinandra (=Hemizonia) conjugens | T | CA, Mexico | 63 FR 54938; 10/13/1998 | Carlsbad.
Thornmint, San Diego | Acanthomintha ilicifolia | T | CA, Mexico | 63 FR 54938; 10/13/1998 | Carlsbad.
Wild-buckwheat, Southern Mountain | Eriogonum kennedyi austromontanum | T | CA | 63 FR 49006; 9/14/1998 | Carlsbad.
Woolly-star, Santa Ana River | Eriastrum densifolium sanctorum | E | CA | 52 FR 36265; 9/28/1987 | Carlsbad.
Milk-vetch, Fish Slough | Astragalus lentiginosus piscinensis | T | CA | 63 FR 53596; 10/6/1998 | Reno.
Brodiaea, Chinese Camp | Brodiaea pallida | T | CA | 63 FR 49022; 9/14/1998 | Sacramento.
Buckwheat, Ione (incl. Irish Hill) | Eriogonum apricum (incl. var. prostratum) | E | CA | 64 FR 28403; 5/26/1999 | Sacramento.
Clarkia, Presidio | Clarkia franciscana | E | CA | 60 FR 6671; 2/3/1995 | Sacramento.
Clarkia, Springville | Clarkia springvillensis | T | CA | 63 FR 49022; 9/14/1998 | Sacramento.
Lessingia, San Francisco | Lessingia germanorum (=L.g. var. germanorum) | E | CA | 62 FR 33368; 6/19/1997 | Sacramento.
Manzanita, Franciscan | Arctostaphylos franciscana | E | CA | 77 FR 54434; 9/5/2012 | Sacramento.
Manzanita, Ione | Arctostaphylos myrtifolia | T | CA | 64 FR 28403; 5/26/1999 | Sacramento.
Manzanita, pallid | Arctostaphylos pallida | T | CA | 63 FR 19842; 4/22/1998 | Sacramento.
Manzanita, Presidio | Arctostaphylos hookeri ravenii | E | CA | 44 FR 61910; 10/26/1979 | Sacramento.
Pussypaws, Mariposa | Calyptridium pulchellum | T | CA | 63 FR 49022; 9/14/1998 | Sacramento.
Sunburst, Hartweg's golden | Pseudobahia bahiifolia | E | CA | 62 FR 5542; 2/6/1997 | Sacramento.
Sunburst, San Joaquin adobe | Pseudobahia peirsonii | T | CA | 62 FR 5542; 2/6/1997 | Sacramento.
Vervain, Red Hills | Verbena californica | T | CA | 63 FR 49022; 9/14/1998 | Sacramento.
Bird's-beak, soft | Cordylanthus mollis mollis | E | CA | 62 FR 61916; 11/20/1997 | San Francisco Bay-Delta.
Thistle, Suisun | Cirsium hydrophilum hydrophilum | E | CA | 62 FR 61916; 11/20/1997 | San Francisco Bay-Delta.
Barberry, island | Berberis pinnata insularis | E | CA | 62 FR 40954; 7/31/1997 | Ventura.
Fringepod, Santa Cruz Island | Thysanocarpus conchuliferus | E | CA | 62 FR 40954; 7/31/1997 | Ventura.
Gilia, Hoffmann's slender-flowered | Gilia tenuiflora hoffmannii | E | CA | 62 FR 40954; 7/31/1997 | Ventura.
Manzanita, Morro | Arctostaphylos morroensis | T | CA | 59 FR 64613; 12/15/1994 | Ventura.
Milk-vetch, Braunton's | Astragalus brauntonii | E | CA | 62 FR 4172; 1/29/1997 | Ventura.
Milk-vetch, coastal dunes | Astragalus tener titi | E | CA | 63 FR 43100; 8/12/1998 | Ventura.
Rock-cress, Hoffmann's | Arabis hoffmannii | E | CA | 62 FR 40954; 7/31/1997 | Ventura.
Spineflower, Ben Lomond | Chorizanthe pungens hartwegiana | E | CA | 59 FR 5499; 2/4/1994 | Ventura.
Tarplant, Gaviota | Deinandra increscens villosa | E | CA | 65 FR 14888; 3/20/2000 | Ventura.
Tarplant, Santa Cruz | Holocarpha macradenia | T | CA | 65 FR 14888; 3/20/2000 | Ventura.
Wallflower, Ben Lomond | Erysimum teretifolium | E | CA | 59 FR 5499; 2/4/1994 | Ventura.

Request for New Information

To ensure that a 5-year review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

To get more information on a species, submit information on a species, or review information we receive, please use the contact information for the lead Fish and Wildlife Office for the species specified in the table above.

Carlsbad Fish and Wildlife Office: Bradd Baskerville-Bridges, 760-431-9440 (phone); fw8cfwocomments@fws.gov (email); or 2177 Salk Avenue, Suite 250, Carlsbad, CA 92008 (U.S. mail);

Hopper Mountain Wildlife Refuge: Steve Kirkland, 805-766-4630 (phone); steve_kirkland@fws.gov (email); or 2493 Portola Road, Suite A, Ventura, CA 93003 (U.S. mail);

Reno Fish and Wildlife Office: Shawna Theisen, 775-861-6378 (phone); RFWOmail@fws.gov (email); or 1340 Financial Boulevard, Suite 234, Reno, NV 89502 (U.S. mail);

Sacramento Fish and Wildlife Office: Josh Hull, 916-414-6742 (phone); fw8sfwocomments@fws.gov (email); or 2800 Cottage Way, Suite W2605, Sacramento, CA 95825 (U.S. mail);

San Francisco Bay-Delta Fish and Wildlife Office: Steven Detwiler, 916-930-2640 (phone); steven_detwiler@fws.gov (email); or 650 Capitol Mall, Sacramento, CA 95814 (U.S. mail);

Southern Nevada Fish and Wildlife Office: Kellie Berry, 702-419-5177 (phone); kellie_berry@fws.gov (email); or 4701 N Torrey Pines Dr., Las Vegas, NV 89130 (U.S. mail); or

Ventura Fish and Wildlife Office: Cat Darst, 805-677-3318 (phone); cat_darst@fws.gov (email); or 2493 Portola Road, Suite B, Ventura CA 93003 (U.S. mail).

Public Availability of Comments

Before including your address, phone number, email address, or other personal identifying information in your comment, you should be aware that your entire comment—including your personal identifying information—may be made publicly available at any time. While you can ask us in your comment to withhold your personal identifying information from public review, we cannot guarantee that we will be able to do so.

Authority

This document is published under the authority of the Endangered Species Act of 1973, as amended (16 U.S.C. 1531 et seq.).

Paul Souza,
Regional Director, Pacific Southwest Region, U.S. Fish and Wildlife Service.

[FR Doc. 2021-10667 Filed 5-19-21; 8:45 am]

BILLING CODE 4333-15-P